ENVIRONMENTAL PROTECTION AGENCY

[EPA-HQ-OAR-2007-1184; FRL-9753-1]

Proposed Information Collection Request; Comment Request; Emissions Certification and Compliance Requirements for Locomotives and Locomotive Engines (Renewal)

AGENCY: Environmental Protection Agency (EPA).

ACTION: Notice.

SUMMARY: The Environmental Protection Agency is planning to submit an information collection request (ICR), “Emissions Certification and Compliance Requirements for Locomotives and Locomotive Engines (Renewal).” (EPA ICR No. 1800-07, OMB Control No. 2060-0392) to the Office of Management and Budget (OMB) for review and approval in accordance with the Paperwork Reduction Act (44 U.S.C. 3501 et seq.). Before doing so, EPA is soliciting public comments on specific aspects of the proposed information collection as described below. This is a proposed extension of the ICR, which is currently approved through February 28, 2013. An Agency may not conduct or sponsor and a person is not required to respond to a collection of information unless it displays a currently valid OMB control number.

DATES: Comments must be submitted on or before January 18, 2013.

ADDRESSES: Submit your comments, referencing Docket ID No. EPA-HQ-OAR-2007-1184 online using www.regulations.gov (our preferred method), by email to a-and-r-Docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Nydia Yanira Reyes-Morales, Environmental Protection Agency, 1200 Pennsylvania Avenue NW., Mail Code 6403J, Washington, DC 20460; telephone number: 202-343-9264; fax number: 202-343-2804; email address: reyes-morales.nydia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB. Abstract: Title II of the Clean Air Act, (42 U.S.C. 7521 et seq.; CAA), charges the Environmental Protection Agency (EPA) with issuing certificates of conformity for those engines that comply with applicable emission standards. Such a certificate must be issued before engines may be legally introduced into commerce. Under this ICR, EPA collects information necessary to (1) issue certificates of compliance with emission statements, and (2) verify compliance with various programs and regulatory provisions pertaining to locomotives, locomotive engines, and locomotive remanufacturing kits (collectively referred to here as “engines” for simplicity). To apply for a certificate of conformity, manufacturers are required to submit descriptions of their planned production engines, including detailed descriptions of emission control systems and test data. This information is organized by “engine family” groups expected to have similar emission characteristics. There are recordkeeping requirements. Those manufacturers electing to participate in the Averaging, Banking and Trading (AB&T) Program are also required to submit information regarding the calculation, actual generation and usage of credits in an initial report, end-of-the-year report and final report. These reports are used for certification and enforcement purposes. Manufacturers must maintain records for eight years on the engine families included in the AB&T Program.

The Act also mandates EPA to verify that manufacturers have successfully translated their certified prototypes into mass produced engines, and that these engines comply with emission standards throughout their useful lives. Under the Production Line Testing Program (“PLT Program”), manufacturers are required to test a sample of engines as they leave the assembly line. This self-audit program allows manufacturers to monitor compliance with statistical certainty and minimize the cost of correcting errors through early detection. A similar audit program exists for the installation of locomotive remanufacturing kits. In-use testing allows manufacturers and EPA to verify compliance with emission standards throughout the locomotive's useful life. Through Selected Enforcement Audits, (SEAs), EPA verifies that test data submitted by engine manufacturers is reliable and testing is performed according to EPA regulations.

The information requested is collected by the Diesel Engine Compliance Center (DECC), Compliance Division (CD), Office of Transportation and Air Quality, Office of Air and Radiation, EPA. Besides DECC and CD, this information could be used by the Office of Enforcement and Compliance Assurance and the Department of Justice for enforcement purposes. Non-confidential business information submitted by respondents to this information collection may be disclosed over the Internet. That information is used by trade associations, environmental groups, and the public. Under this ICR, most of the information is collected in electronic format and stored in CD's databases.

Form Numbers: 5900-125 (ABT template); 5900-135 (PLT/Installation Audit template), 5900-90 (Annual Production Report template)

Respondents/affected entities: Respondents are manufacturers of nonroad equipment and engines within the following North American Industry Classification System (NAICS) codes: 333618 (Other Engine Equipment Manufacturing), 336510 (Railroad Rolling Stock manufacturing), and 482111 (Line-haul Railroads).

Respondent's obligation to respond: Manufacturers must respond to this collection if they wish to sell their locomotives, locomotive engines and locomotive remanufacturing kits in the US, as prescribed by Section 206(a) of the CAA (42 U.S.C. 7521) and 40 CFR Part 1033. Certification reporting is mandatory (Section 206(a) of CAA (42 U.S.C. 7521) and 40 CFR Part 1033, Subpart C). PLT/Installation Audit reporting is mandatory (Section 206(b)(1) of CAA and 40 CFR Part 1033, Subpart D). Participation in ABT is voluntary, but once a manufacturer has elected to participate, it must submit the required information (40 CFR Part 1033, Subpart H). In-Use reporting is mandatory (40 CFR Part 1033, Subpart F).

Estimated number of respondents: 10 (total).

Frequency of response: Quarterly, Annually, On Occasion, depending on the program.

Total estimated burden: 21,129 hours per year. Burden is defined at 5 CFR 1320.03(b)

Total estimated cost: Estimated total annual costs: $2,349,724 (per year), includes an estimated $1,365,299 annualized capital or maintenance and operational costs.

Changes in Estimates: To date, there are no changes in the number of hours in the total estimated respondent burden compared with that identified in the ICR currently approved by OMB. However, EPA is evaluating information that may lead to a change in the estimates. After EPA has evaluated this information, estimates may rise due to an increase in the number of respondents.

Dated: November 8, 2012.
Byron J. Bunker,
Acting Director, Compliance Division, Office of Transportation and Air Quality, Office of Air and Radiation.

[FR Doc. 2012-28087 Filed 11-16-12; 8:45 am]

BILLING CODE 6560-50-P